DEPARTMENT OF DEFENSE

Office of the Secretary

Defense Policy Board; Notice of Federal Advisory Committee Meeting

AGENCY: Under Secretary of Defense for Policy, Department of Defense.

ACTION: Notice of federal advisory committee meeting.

SUMMARY: The Department of Defense (DoD) is publishing this notice to announce that the following Federal Advisory Committee meeting of the Defense Policy Board (DPB) will take place.

DATES: Closed to the Public Tuesday, October 9, 2018 from 8:00 a.m. to 5:45 p.m.

ADDRESSES: The closed meeting will be held at The Pentagon, 2000 Defense Pentagon, Washington, DC 20301-2000.

FOR FURTHER INFORMATION CONTACT: Marcus Bonds, (703) 571-0854 (Voice), 703-697-8606 (Facsimile), marcus.bonds.civ@mail.mil (Email). Mailing address is 2000 Defense Pentagon, Washington, DC 20301-2000.

SUPPLEMENTARY INFORMATION: Due to circumstances beyond the control of the Department of Defense (DoD) and the Designated Federal Officer, the Defense Policy Board was unable to provide public notification required by 41 CFR 102-3.150(a) concerning the meeting on October 9, 2018 of the Defense Policy Board. Accordingly, the Advisory Committee Management Officer for the Department of Defense, pursuant to 41 CFR 102-3.150(b), waives the 15-calendar day notification requirement.

This meeting is being held under the provisions of the Federal Advisory Committee Act (FACA) (5 U.S.C., Appendix), the Government in the Sunshine Act (5 U.S.C. 552b), and 41 CFR 102-3.140 and 102-3.150.

Purpose of the Meeting: To obtain, review and evaluate classified information related to the DPB's mission to advise on: (a) Issues central to strategic DoD planning; (b) policy implications of U.S. force structure and force modernization and on DoD's ability to execute U.S. defense strategy; (c) U.S. regional defense policies; and (d) other research and analysis of topics raised by the Secretary of Defense, the Deputy Secretary of Defense, or the Under Secretary of Defense for Policy.

Agenda: On October 9, the DPB will have Secret level or higher discussions on national security issues regarding the Space Force and Innovation and the Industrial Base. Topics and Speakers are (1) Annual Assessment of Threats to Cleared Industry, Stephanie Andrews, Defense Security Service; (2) Deliberation on Subgroup Report on Space; (3) DoD Technical Transfers, Beth M. McCormick, OSD Chair and Senior Advisor to the Commandant, National Defense University; (4) Committee on Foreign Investment in the United States, Thomas Feddo, Deputy Assistant Secretary Department of Treasury; (5) DoD Acquisition and Programs, Eric Chewing, Deputy Assistant Secretary of Defense for Industrial Policy, Under Secretary of Defense for Acquisition and Sustainment; and James A. Faist, Director of Defense Research and Engineering for Advanced Capabilities, Under Secretary of Defense Research and Engineering; (6) Discussion and out brief Secretary of Defense.

Meeting Accessibility: Pursuant to the Government in the Sunshine Act, the FACA, and the FACA Final Rule (41 CFR 102-3.155), the DoD has determined that this meeting shall be closed to the public. The Under Secretary of Defense (Policy), in consultation with the DoD FACA Attorney, has determined in writing that this meeting be closed to the public because the discussions fall under the purview of Section 552b(c)(1) of the Sunshine Act and are so inextricably intertwined with unclassified material that they cannot reasonably be segregated into separate discussions without disclosing secret or higher classified material.

Written Statements: Pursuant to 41 CFR 102-3.105(j) and 102-3.140(c) and section 10(a)(3) of the FACA, the public or interested organizations may submit written statements to the membership of the DPB at any time regarding its mission or in response to the stated agenda of a planned meeting. Written statements should be submitted to the DPB's Designated Federal Officer (DFO); the DFO's contact information is listed in this notice or it can be obtained from the GSA's FACA Database— http://www.facadatabase.gov/. Written statements that do not pertain to a scheduled meeting of the DPB may be submitted at any time. The DFO will review all submitted written statements and provide copies to all members.

Dated: October 3, 2018.
Aaron T. Siegel,
Alternate OSD Federal Register Liaison Officer, Department of Defense.

[FR Doc. 2018-21941 Filed 10-9-18; 8:45 am]

BILLING CODE 5001-06-P